SMALL BUSINESS ADMINISTRATION

National Women's Business Council

AGENCY: U.S. Small Business Administration.

ACTION: Notice of open Federal advisory committee meeting.

SUMMARY: The SBA is issuing this notice to announce the location, date, time, and agenda for the next meeting of the National Women's Business Council (NWBC). The meeting will be open to the public.

DATES: The meeting will be held on April 29, 2011 from approximately 2 p.m. to 3 p.m. EST.

ADDRESSES: The meeting will be held in Room 428A Russell Senate Office Building (U.S. Senate Committee on Small Business and Entrepreneurship), Washington, DC 20510.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

The purpose of the meeting is to introduce some of the NWBC's research agenda and outreach for fiscal year 2011. Additionally, newly appointed members to the NWBC will be introduced.

FOR FURTHER INFORMATION CONTACT: The meeting is open to the public, however, advance notice of attendance is requested. Anyone wishing to attend or make a presentation to the NWBC must either e-mail their interest to info@nwbc.gov or call the main office number at 202-205-3850.

For more information, please visit our Web site at http://www.nwbc.gov.

Dan S. Jones,
SBA Committee Management Officer.

[FR Doc. 2011-9137 Filed 4-15-11; 8:45 am]

BILLING CODE M